DEPARTMENT OF VETERANS AFFAIRS

[OMB Control No. 2900-0747]

Fully Developed Claim (Fully Developed Claims—Applications for Compensation, Pension, DIC, Death Pension, and/or Accrued Benefits); Correction

AGENCY: Veterans Benefits Administration, Department of Veterans Affairs.

ACTION: Notice; correction.

SUMMARY: The Department of Veterans Affairs (VA) published a collection of information notice in a Federal Register on June 15, 2011, that contained an error. The notice mistakenly omits a word and incorrectly identifies who is required to sign and date the certification. This document corrects the error by inserting the omitted word and by removing “or their representative” each place it appears.

DATES: This correction is effective June 21, 2011.

FOR FURTHER INFORMATION CONTACT: Denise McLamb, Enterprise Records Service (005R1B), Department of Veterans Affairs, 810 Vermont Avenue, NW., Washington, DC 20420, at 202-461-7485.

Correction

In FR Doc. 2011-14760, published on June 15, 2011, at 76FR115, make the following correction. On page 35086, in the third column, under Abstract, insert the word “be” before “used” and remove “or their representative” each place it appears.

William F. Russo,
Deputy Director, Office of Regulation and Policy, Office of the General Counsel, Department of Veterans Affairs.

[FR Doc. 2011-15427 Filed 6-20-11; 8:45 am]

BILLING CODE 8320-01-P